NATIONAL AERONAUTICS AND SPACE ADMINISTRATION

[Notice (03-096)]

NASA Advisory Council; Meeting

AGENCY: National Aeronautics and Space Administration (NASA).

ACTION: Notice of meeting.

SUMMARY: In accordance with the Federal Advisory Committee Act, Pub. L. 92-463, as amended, the National Aeronautics and Space Administration announces a meeting of the NASA Advisory Council (NAC).

DATES: Tuesday, September 9, 2003, 8 a.m. to 5 p.m. and Wednesday, September 10, 2003, 8:30 a.m. to 3 p.m.

ADDRESSES: AMES Research Center, NASA, Moffett Training and Conference Center, Building 3, Corner of Severyns and South Akron Avenues, Moffett Field, CA 94035-1000.

FOR FURTHER INFORMATION CONTACT: Ms. Kathy Dakon, Code IC, National Aeronautics and Space Administration, Washington, DC 20546, 202/358-0732.

SUPPLEMENTARY INFORMATION: The meeting will be open to the public up to the seating capacity of the room. The agenda for the meeting is as follows:

• Information Technology

• Strategic Plan

• Human Capital, Education and Communication

• Project Prometheus—Informational Briefing

• Future Air Transportation Management System

• Overview of AMES Research Center

• Proposed NAC Work Plan Presentation to the Administrator

• Return to Flight

Visitors will be asked to present a valid picture ID. It is imperative that the meeting be held on these dates to accommodate the scheduling priorities of the key participants. Visitors will be requested to sign a visitor's register.

June W. Edwards,
Advisory Committee Management Officer, National Aeronautics and Space Administration.

[FR Doc. 03-21817 Filed 8-25-03; 8:45 am]

BILLING CODE 7510-01-P